DEPARTMENT OF COMMERCE

International Trade Administration

Notice of Retraction of Publication of the Notice of Final Redetermination Pursuant to Court Remand, Wheatland Tube Co. v. United States, Court No. 12-00296

ACTION: Notice of retraction.

SUMMARY: The International Trade Administration inadvertently published a notice of Final Redetermination Pursuant to Court Remand in Wheatland Tube Co. v. United States, in the Federal Register on Tuesday, October 20, 2015 (80 FR 63537) (“Notice”). The Notice is hereby retracted from the Federal Register, and as such, the Notice should be disregarded.

FOR FURTHER INFORMATION CONTACT: Cara Lofaro, AD/CVD Operations, Office IV, Enforcement and Compliance, International Trade Administration, U.S. Department of Commerce, 14th Street and Constitution Avenue NW., Washington, DC 20230; telephone: (202) 482-5720.

Dated: October 23, 2015.
Paul Piquado,
Assistant Secretary for Enforcement and Compliance.

[FR Doc. 2015-27777 Filed 10-29-15; 8:45 am]

BILLING CODE 3510-DS-P